DEPARTMENT OF DEFENSE

Office of the Secretary

[Docket ID: DOD-2010-HA-0177]

Proposed Collection; Comment Request

AGENCY: Office of the Assistant Secretary of Defense for Health Affairs, DoD.

ACTION: Notice; correction.

SUMMARY: On Tuesday, December 28, 2010 (75 FR 81242), the Department of Defense published a notice seeking comment on a new proposed public information collection: Traumatic Brain Injury, Post-Traumatic Stress Disorder, and Long-Term Quality of Life Outcomes in Injured Tri-Service U.S. Military Personnel; OMB Control Number 0720-TBD. The notice contained an incomplete phone number in the FOR FURTHER INFORMATION CONTACT section. The correct information follows.

FOR FURTHER INFORMATION CONTACT: To request more information on this proposed information collection or to obtain a copy of the proposal and associated collection instruments, please write to: Commanding Officer, Naval Health Research Center, ATTN: Michael Galarneau, MS, NREMT, Code 161, 140 Sylvester Road, San Diego, CA 92106, or call at (619) 553-8411. (this is not a toll-free number).

Dated: December 30, 2010.
Morgan F. Park,
Alternate OSD Federal Register Liaison Officer, Department of Defense.

[FR Doc. 2010-33263 Filed 1-4-11; 8:45 am]

BILLING CODE 5001-06-P